FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. Copies of the agreement are available through the Commission's Web site (www.fmc.gov) or by contacting the Office of Agreements at (202)-523-5793 or tradeanalysis@fmc.gov.

Agreement No.: 012152.

Title: CSAV/Liberty Mexico Space Charter Agreement.

Parties: Compania Sud Americana de Vapores S.A. and Liberty Global Logistics LLC.

Filing Party: Walter H. Lion, Esq.; McLaughlin & Stern, LLP; 260 Madison Avenue; New York, NY 10016.

Synopsis: The agreement authorizes the parties to cross charter space for the carriage of motorized vehicles from ports in Mexico to ports on the U.S. East Coast.

Dated: January 13, 2012.
By Order of the Federal Maritime Commission.
Karen V. Gregory,
Secretary.

[FR Doc. 2012-996 Filed 1-18-12; 8:45 am]

BILLING CODE 6730-01-P